DEPARTMENT OF THE INTERIOR

Minerals Management Service

30 CFR Part 250

RIN 1010-AD18

Oil and Gas and Sulphur Operations in the Outer Continental Shelf (OCS)—Revisions to Subpart A—General; Subpart I—Platforms and Structures; and Subpart J—Pipelines and Pipeline Rights-of-Way

AGENCY: Minerals Management Service (MMS), Interior.

ACTION: Proposed rule.

SUMMARY: MMS is proposing to amend its regulations to require lessees, lease operators, and pipeline right-of-way (ROW) holders to submit assessment information on the structural integrity of their OCS platforms each year, and to submit an inspection program to MMS yearly. Also, a damage report would be required if a facility or pipeline was damaged by a hurricane or other natural phenomena. Lessees, lease operators, and pipeline ROW holders proposing to use unbonded flexible pipe for pipelines, or to install pipeline risers on floating platforms, would have to provide additional information on their projects. The proposed rule also would incorporate an industry-developed standard concerning the in-service inspection of mooring hardware for floating drilling units. These proposed changes would allow MMS to better regulate the safety of the oil and gas infrastructure, and to promptly assess damage resulting from hurricanes or other natural phenomena.

DATES: Submit comments by September 1, 2006. MMS may not fully consider comments received after this date. Submit comments to the Office of Management and Budget on the information collection burden in this rulemaking by August 2, 2006.

ADDRESSES: You may submit comments on the rulemaking by any of the following methods. Please use the Regulation Identifier Number (RIN) 1010-AD18 as an identifier in your message. See also Public Comment Procedures under Procedural Matters.

• MMS's Public Connect on-line commenting system, http://ocsconnect.mms.gov. Follow the instructions on the Web site for submitting comments.

• Federal eRulemaking Portal: http://www.regulations.gov. Follow the instructions on the Web site for submitting comments.

• E-mail MMS at rules.comments@mms.gov. Use the RIN 1010-AD18 in the subject line.

• Fax: 703-787-1546. Identify with the RIN, 1010-AD18.

• Mail or hand-carry comments to the Department of the Interior; Minerals Management Service; Attention: Rules Processing Team (RPT); 381 Elden Street, MS-4024; Herndon, Virginia 20170-4817. Please reference 1010-AD18 in your comments and include your name and return address.

• Send comments on the information collection in this rule to: Interior Desk Officer 1010-AD18, Office of Management and Budget, 202/395-6566 (facsimile); e-mail: oira_docket@omb.eop.gov. Please also send a copy to MMS.

FOR FURTHER INFORMATION CONTACT: Larry Ake, Regulations and Standards Branch at (703) 787-1567.

SUPPLEMENTARY INFORMATION: On July 19, 2005, MMS published a final rule (70 FR 41556) titled “Fixed and Floating Platforms and Structures and Documents Incorporated by Reference” in the Federal Register. That final rule expanded MMS regulations regarding the design, construction, and operation of OCS facilities to include coverage of floating oil and gas production platforms. The rule also incorporated by reference a number of industry-developed standards pertaining to floating platforms. During the process of developing and publishing that final rule, comments were received, both from the public and internally within MMS, that suggested additional requirements. MMS has since reviewed the suggested changes and is incorporating those with the greatest merit in this proposed rule.

The first of these proposed revisions was suggested by both the Offshore Operator's Committee (OOC) and Shell Oil Company. They suggested that MMS consider adopting American Petroleum Institute Recommended Practice (API RP) 2I, “In-Service Inspection of Mooring Hardware for Floating Drilling Units.”

MMS agrees that API RP 2I, second edition, would be a valuable industry standard to consider for incorporation by reference into 30 CFR part 250, subparts A and I. API RP 2I is specifically written to address the inspection of mooring chain and wire rope for Mobile Offshore Drilling Units (MODUs), which frequently move from location to location. Moreover, the detailed information provided in API RP 2I on failure modes, inspection methods, and repair methods also could be useful in the development and implementation of the in-service inspection plan required under § 250.919(a) for other types of offshore floating facilities that remain on station for longer periods of time. Based on OOC's and Shell's recommendation, MMS has reviewed API RP 2I, “In-Service Inspection of Mooring Hardware for Floating Drilling Units,” and is proposing that it be incorporated by reference into our regulations. MMS welcomes further industry comments on the referencing of this document in subparts A and I.

Subpart I currently requires that lessees and operators develop an in-service inspection plan for platforms (§ 250.919). The plan must show in detail the type, extent, and frequency of the inspections lessees and operators will conduct on platforms. The existing regulation does not specify when the plan must be submitted to MMS for approval. MMS is now proposing that the plan be submitted to the Regional Supervisor for approval each year by April 1.

The proposed rule would add several requirements to subpart I, Platforms and Structures, to reflect MMS's concerns about the aging infrastructure on the OCS. These proposed new requirements are meant to help ensure that lessees, lease operators, and pipeline ROW holders are appropriately assessing their OCS structures to ascertain their fitness for continued use. Included in the proposed revisions to § 250.920 are the following: (1) A complete platform structural assessment analysis if the platform meets one or more platform assessment initiators; (2) platform mitigation actions, which must be approved by the Regional Supervisor, if the platform does not pass the assessment; (3) approval from the Regional Supervisor before assessing a platform to either the medium or low consequence-of-failure exposure category; and (4) MMS approval before changing the use of the platform.

Also in subpart I, a proposed addition to the table contained at § 250.905 would require lessees and lease operators to submit a summary of the safety factors utilized when designing their platforms. This requirement was included in previous MMS regulations, but was omitted in the recently published subpart I due to an oversight.

At § 250.916(c), the third-party Certified Verification Agent (CVA) currently must submit the final platform design report to the Regional Supervisor before the fabrication phase begins. In addition, § 250.917(c) requires the CVA to submit the final fabrication report before the beginning of the installation phase. Finally, § 250.918(c) now requires the CVA to submit a final report covering the adequacy of the installation phase within 30 days of the installation of the platform. MMS recognizes that it may be difficult and impractical for lessees and operators to meet these deadlines for some projects. Therefore, the proposed rule would add language to require operators to submit a complete schedule for platform design, fabrication, and installation that shows when interim and final reports will be submitted to MMS.

MMS often needs to obtain damage assessments and reports from lessees, lease operators, and pipeline right-of-way holders after events such as earthquakes or hurricanes. Proposed wording has been added to subpart I at § 250.919(c) and (d) concerning special surveys of platforms that would be conducted in accordance with the provisions of API RP 2A-WSD. MMS would require lessees, lease operators, and pipeline right-of-way holders to provide MMS with the schedule for, and results of, these special surveys.

A new proposed requirement also would be added to subpart A, General, at § 250.192, that would require lessees, lease operators, and pipeline ROW holders to submit reports to MMS if their facilities are damaged by a hurricane, earthquake, or other natural phenomenon. A new form (Form MMS-143, Facility/Equipment Damage Report) has been developed to assist lessees, lease operators, and pipeline ROW holders when reporting this damage. Adding this requirement to the regulations, with an Office of Management and Budget (OMB) approval for information collection, would allow MMS to request damage information without the delay of obtaining OMB approval for each event.

Additional requirements are also proposed for subpart J, Pipelines and Pipeline Rights-of-Way. These proposed requirements would require lessees, lease operators, and pipeline ROW holders to provide additional information in their pipeline applications if they intend to use unbonded flexible pipe or a pipeline riser with a floating platform.

Procedural Matters

Public Comment Procedures

MMS's practice is to make comments, including the names and addresses of respondents, available for public review. Individual respondents may request that we withhold their addresses from the rulemaking record, which we will honor to the extent allowable by law. There may be circumstances in which we would withhold from the rulemaking record a respondent's identity, as allowable by law. If you wish us to withhold your name and/or address, you must state this prominently at the beginning of your comment. However, MMS will not consider anonymous comments. We will make all submissions from organizations or businesses, and from individuals identifying themselves as representatives or officials of organizations or businesses, available for public inspection in their entirety.

Regulatory Planning and Review (Executive Order (E.O.) 12866)

This document is not a significant rule and does not require review by OMB under E.O. 12866.

(1) This proposed rule would not have an effect of $100 million or more on the economy. It would not adversely affect in a material way the economy, productivity, competition, jobs, the environment, public health or safety, or state, local, or tribal governments or communities.

(2) This proposal would not create a serious inconsistency or otherwise interfere with an action taken or planned by another agency.

(3) This proposed rule would not alter the budgetary effects of entitlements, grants, user fees, or loan programs, or the rights or obligations of their recipients; and has no effect on these programs or such rights.

(4) This proposed rule would not raise novel legal or policy issues.

Regulatory Flexibility Act (RFA)

The Department certifies that this proposed rule would not have a significant economic effect on a substantial number of small entities as defined under the RFA (5 U.S.C. 601 et seq.). Most of the costs for complying with this proposed rule would be information collection costs. The total estimated annual burden hours for responding to the information collection requirements in this proposed rule are 87,347. At an estimated cost of $50 per hour, the industry-wide cost for the information collection burden in this proposed rule would be slightly over four million dollars. Complying with the API RP 2I, “In-Service Inspection of Mooring Hardware for Floating Drilling Units,” should not be a financial burden since responsible companies already adhere to the practices described in the document. For a proposed rule with these relatively low projected costs to industry, a Regulatory Flexibility Analysis is not required. Accordingly, a Small Entity Compliance Guide is not required.

This proposed rule would apply to all lessees, lease operators, and pipeline ROW holders operating on the OCS. MMS estimates that 130 lessees/operators explore for and produce oil and gas on the OCS. Approximately 70 percent of them (91 companies) fall into the small business category. MMS estimates that 207 companies currently hold pipeline rights-of-way. Approximately 65 percent of them (135 companies) fall into the small business category.

Your comments are important. The Small Business and Agriculture Regulatory Enforcement Ombudsman and 10 Regional Fairness Boards were established to receive comments from small businesses about Federal agency enforcement actions. The Ombudsman will annually evaluate the enforcement activities and rate each agency's responsiveness to small business. If you wish to comment on the enforcement actions of MMS, call toll-free 1-(888) 734-3247.

Small Business Regulatory Enforcement Fairness Act (SBREFA)

This proposed rule is not a major rule under SBREFA (5 U.S.C. 804(2)). This proposed rule:

(a) Would not have an annual effect on the economy of $100 million or more.

(b) Would not cause a major increase in costs or prices for consumers, individual industries, Federal, state, or local government agencies, or geographic areas.

(c) Would not have significant adverse effects on competition, employment, investment, productivity, innovation, or the ability of U.S.-based enterprises to compete with foreign-based enterprises.

Unfunded Mandates Reform Act (UMRA)

This proposed rule would not impose an unfunded mandate on state, local, or tribal governments, or the private sector, of more than $100 million per year. The proposed rule would not have a significant or unique effect on state, local, or tribal governments, or the private sector. A statement containing the information required by the UMRA (2 U.S.C. 1531 et seq.) is not required.

Takings Implications Assessment (Executive Order 12630)

According to E.O. 12630, the proposed rule would not have significant Takings implications. A Takings Implication Assessment is not required.

Federalism (Executive Order 13132)

According to E.O. 13132, this proposed rule would not have Federalism implications. The proposed rule would not substantially and directly affect the relationship between the federal and state governments, and would not impose costs on states or localities.

Civil Justice Reform (Executive Order 12988)

With respect to E.O. 12988, the Office of the Solicitor has determined that this proposed rule would not unduly burden the judicial system, and meets the requirements of sections 3(a) and 3(b)(2) of the E.O.

Paperwork Reduction Act (PRA)

This proposed rule contains a collection of information that has been submitted to OMB for review and approval under § 3507(d) of the PRA. As part of our continuing effort to reduce paperwork and respondent burdens, MMS invites the public and other federal agencies to comment on any aspect of the reporting and recordkeeping burden. If you wish to comment on the information collection aspects of this proposed rule, you may send your comments directly to the OMB (see the ADDRESSES section of this notice). Please identify your comments with 1010-AD18. Send a copy of your comments to the Rules Processing Team (RPT), Attn: Comments; 381 Elden Street, MS-4024; Herndon, Virginia 20170-4817. Please reference “30 CFR 250, Oil and Gas and Sulphur Operations in the Outer Continental Shelf-Revisions to Subpart A—General; Subpart I—Platforms and Structures; and Subpart J—Pipelines and Pipeline Rights-of-Way, 1010-AD18” in your comments. You may obtain a copy of the supporting statement for the new collection of information by contacting the Bureau's Information Collection Clearance Officer at (202) 208-7744.

The PRA provides that an agency may not conduct or sponsor, and a person is not required to respond to, a collection of information unless it displays a currently valid OMB control number. OMB is required to make a decision concerning the collection of information contained in these proposed regulations between 30 to 60 days after publication of this document in the Federal Register. Therefore, a comment to OMB is best assured of having its full effect if OMB received it by August 2, 2006. This does not affect the deadline for the public to comment to MMS on the proposed regulations.

The title of the collection of information for the rule is “30 CFR 250, Oil and Gas and Sulphur Operations in the Outer Continental Shelf (OCS)—Revisions to Subpart A—General; Subpart I—Platforms and Structures; and Subpart J—Pipelines and Pipeline Rights-of-Way.” Respondents are approximately 130 Federal OCS lessees, operators, and their Independent Verification Agents or other third-party reviewers of production facilities, as well as 207 pipeline right-of-way holders. Responses to this collection are mandatory. The frequency of response varies, but is primarily annual or as needed. The information collection (IC) does not include questions of a sensitive nature. MMS will protect proprietary information according to the Freedom of Information Act (5 U.S.C. 522) and its implementing regulations (43 CFR part 2), and 30 CFR 250.196, “Data and information to be made available to the public,” and 30 CFR part 252, “OCS Oil and Gas Information Program.”

The collection of information required by the current subparts A, I, and J of 30 CFR 250 are approved by OMB under control numbers 1010-0114 (expiration October 31, 2007); 1010-0149 (expiration March 31, 2008); and 1010-0050 (expiration March 31, 2009), respectively.

MMS will use the information collected and records maintained under subpart I to determine the fitness of aging infrastructure for continued use, as well as to ensure that the in-service inspection plan for platforms is submitted to the Regional Supervisor for approval each year by April l. The information is necessary to determine that platforms and structures are sound and safe for their intended purpose, provide for the safety of personnel, and meet MMS standards for pollution prevention. The information collected under subpart A would require respondents to submit reports to MMS if their facilities are damaged by a natural phenomenon (e.g., hurricane, earthquake). A new Form MMS-143, Facility/Equipment Damage Report, was developed to assist respondents when reporting this damage. MMS will use this information to rapidly assess damage, and to project any disruption of oil and gas production from the OCS after such an event. MMS will use the information collected under subpart J to ensure that pipelines or pipeline risers with floating platforms have been designed to handle the environmental stresses put upon them (e.g., water currents, mudslides).

When final regulations are promulgated, the new information collection burdens for 30 CFR part 250 subparts A, I, and J will be incorporated into their respective collections of information for those regulations. Also, this rule and ICR modify and incorporate the hours and requirements already approved in 1010-0164, expiration February 28, 2009; therefore, that collection will be discontinued when the final regulations take effect.

The following table details the IC burden for the proposed new requirements in subparts A, I, and J.

Citation 30 CFR 250 rule section and NTL(s) | Reporting and recordkeeping requirement | Hour burden | Average No. of annual responses | Annual burden hours
Subpart A
192(a)(3) | Inform MMS when you resume production | .166 | 600 | 100
192(b) | Use Form MMS-143 to submit an initial damage evaluation report to the Regional Supervisor within 48 hours after completing initial damage assessment | 4 | 100 | 400
192(b) | Use Form MMS-143 to submit subsequent damage reports on a weekly basis until the damaged structure or equipment is returned to service | 1 | 400 | 400
Subpart I
900(e) | Submit platform installation date and the final as-built location to the Regional Supervisor within 45 days after platform installation | .5 | 140 | 70
905(i) | Provide a summary of safety factors utilized in the design of the platform | .25 | 331 | 83
911; 916; 917; 918 | Submit complete schedule of all phases of design, fabrication, and installation with required information; also submit Gantt Chart with required information | 40 | 15 | 600
919(a) | Submit annual inspection plan to the Regional Supervisor for approval | 250 | 130 | 32,500
919(c) NTL | After an environmental event, submit to Regional Supervisor initial report followed by updates and supporting information | ¹ 12 | 150 | 1,800
919(d) NTL | Submit results of inspections; obtain MMS approval before making major repairs | 120 | 200 | 24,000
920(b) | Obtain approval from the Regional Supervisor before assessing your platform to medium or low consequence of failure exposure category | 20 | 400 | 8,000
920(d) | Obtain approval from the Regional Supervisor for mitigation actions | 40 | 200 | 8,000
920(f) | Submit a list of all platforms you operate, and appropriate supporting data, annually | 40 | 130 | 5,200
920(g) | Obtain approval from the Regional Supervisor for any change in the platform | 40 | 100 | 4,000
Subpart J
1007(a)(4)(i)(A); (B); (C) | Provide specified information in your pipeline application if using unbonded flexible pipe | 4 | 6 | 24
1007(a)(4)(i)(D) | Provide results of third party IVA review in your pipeline application if using unbonded flexible pipe | 40 | 1 | 40
1007(a)(4)(ii) | Provide specified information in your pipeline application | 30 | 35 | 1,050
Total Burden |  |  | 3,028 | 87,347
¹ Initial update.

MMS specifically solicits comments on the following questions:

(a) Is the proposed collection of information necessary for MMS to properly perform its functions, and will it be useful?

(b) Are the estimates of the burden hours of the proposed collection reasonable?

(c) Do you have any suggestions that would enhance the quality, clarity, or usefulness of the information to be collected?

(d) Is there a way to minimize the information collection burden on those who are to respond, including the use of appropriate automated electronic, mechanical, or other forms of information technology?

In addition, the PRA requires agencies to estimate the total annual reporting and recordkeeping “non-hour cost” burden resulting from the collection of information. We have not identified any, and we solicit your comments on this item.

National Environment Policy Act (NEPA)

MMS has analyzed this proposed rule under NEPA and 516 Departmental Manual 6, Appendix 10.4C, “Issuance and/or modification of regulations.” This proposed rule would not constitute a major Federal action significantly affecting the quality of the human environment, and falls within the categorical exclusion of Appendix 10.4C(1) because the impact of the proposed rule would be limited to administrative and economic effects. A detailed statement under the NEPA is not required.

Energy Supply, Distribution, or Use (Executive Order 13211)

This proposed rule is not a significant rule and is not subject to review by the Office of Management and Budget under E.O. 13211. The proposed rule would not have a significant effect on energy supply, distribution, or use because the costs due to the proposed increases in reporting requirements will be very small when compared to the costs of operating on the OCS. Thus, a Statement of Energy Effects is not required.

Consultation With Indian Tribes (Executive Order 13175)

Under the criteria in E.O. 13175, we have evaluated this proposed rule and determined that it has no potential effects on federally recognized Indian tribes. There are no Indian lands or tribes on the OCS.

Clarity of This Regulation

Executive Order 12866 requires each agency to write regulations that are easy to understand. We invite your comments on how to make this proposed rule easier to understand, including answers to questions such as the following:

(1) Are the requirements in the proposed rule clearly stated?

(2) Does the proposed rule contain technical language or jargon that interferes with its clarity?

(3) Does the format of the proposed rule (grouping and order of sections, use of headings, paragraphing, etc.) aid or reduce its clarity?

(4) Is the description of the proposed rule in the “Supplementary Information” section of this preamble helpful in understanding the rule? What else can we do to make the rule easier to understand?

Send a copy of any comments that concern how we could make this rule easier to understand to: Office of Regulatory Affairs, Department of the Interior, Room 7229, 1849 C Street, NW., Washington, DC 20240. You may also e-mail the comments to this address: Exsec@ios.doi.gov.

List of Subjects in 30 CFR Part 250

Continental shelf, Environmental protection, Oil and gas exploration, Pipelines, Public lands—rights-of-way, Reporting and recordkeeping requirements.

Dated: June 19, 2006.
R.M. “Johnnie” Burton,
Director, Minerals Management Service, Exercising the delegated authority of the Assistant Secretary, Land and Minerals Management.

For the reasons stated in the preamble, MMS proposes to amend 30 CFR part 250 as follows:

PART 250—LEASING OF SULPHUR OR OIL AND GAS IN THE OUTER CONTINENTAL SHELF

1. The authority citation for part 250 continues to read as follows:

Authority: 43 U.S.C. 1331, et seq.; 31 U.S.C. 9701.

2. Section 250.192 and its title are revised to read as follows:

§ 250.192 What reports and statistics must I submit relating to a hurricane, earthquake, or other natural occurrence?

(a) You must submit evacuation statistics to the Regional Supervisor for a natural occurrence, such as an earthquake, a hurricane, or tropical storm. Statistics include facilities and rigs evacuated and the amount of production shut in for gas and oil. You must:

(1) Submit the statistics by fax or e-mail (for activities in the MMS GOM OCS Region, use Form MMS-132) as soon as possible when evacuation occurs;

(2) Submit the statistics on a daily basis by 11 a.m., as conditions allow, during the period of shut-in and evacuation;

(3) Inform MMS when you resume production; and

(4) Submit the statistics either by MMS district, or the total figures for your operations in an MMS region.

(b) If your facility, production equipment, or pipeline is damaged by a hurricane, tropical storm, earthquake, or other natural occurrence, you must:

(1) Submit a report to the Regional Supervisor within 48 hours after you complete your initial evaluation of the damage. You must use Form MMS-143 to make this report and all subsequent reports. In the report, you must:

(i) Name the items damaged (e.g., platform or other structure, production equipment, pipeline);

(ii) Describe the damage and assess the extent of the damage (major, medium, minor); and

(iii) Estimate the time it will take to replace or repair each damaged structure and piece of equipment and return it to service.

(2) Submit subsequent reports on a weekly basis until the damaged structure or equipment is returned to service. In the final report, you must provide the date the item was returned to service.

3. Section 250.198 paragraph (e) is amended by adding an entry in alphanumerical order in the table for API RP 2I, “In-Service Inspection of Mooring Hardware for Floating Drilling Units”, and revising the entry for API RP 2A-WSD to read as follows:

§ 250.198 Documents Incorporated by Reference.

* * * * *

(e) * * *

Title of documents | Incorporated by reference at
* * * * * * *
API RP 2A WSD, Recommended Practice for Planning, Designing, and Constructing Fixed Offshore Platforms—Working Stress Design; Twenty-first Edition, December 2000 (API Order No. G2AWSD) | § 250.901(a)(4); § 250.908(a); § 250.919(c)(2); § 250.920(a)(b)(c)(e).
* * * * * * *
API RP 2I, In-Service Inspection of Mooring Hardware for Floating Drilling Units, February 1, 1997 | § 250.901(a)(6).

4. Section 250.199 paragraph (e) is amended by adding an entry for Form MMS-143, Facility/Equipment Damage Report, as follows:

§ 250.199 Paperwork Reduction Act statements—information collection.

* * * * *

(e) * * *

30 CFR 250 subpart/title (OMB control No.) | Reasons for collecting information and how used
* * * * * * *
(26) Form MMS-143, Facility/Equipment Damage Report, Subpart A (1010-0114) | This information will allow MMS to rapidly assess damage and project any disruption of oil and gas production from the OCS after a major natural occurrence.

5. Section 250.900 paragraph (e) is revised to read as follows:

§ 250.900 What general requirements apply to all platforms?

* * * * *

(e) You must submit notification of the platform installation date, and the final as-built location data, to the Regional Supervisor within 45 calendar days of completion of platform installation. MMS will cancel your approved platform installation permits 1 year after the approval is granted if the platform is not installed. If MMS cancels your permit approval, you must resubmit your application.

6. In section 250.901 paragraph (a), the following changes are made:

A. Redesignate paragraphs (a)(6) through (a)(20) as (a)(7) through (a)(21), respectively.

B. Add new paragraph (a)(6) to read as follows:

§ 250.901 What industry standards must your platform meet?

(a) * * *

(6) API RP 2I, In-Service Inspection of Mooring Hardware for Floating Drilling Units, (incorporated by reference as specified in § 250.198);

* * * * *

7. Section 250.905 is amended by redesignating current paragraphs (i) and (j), as paragraphs (j) and (k) respectively, and adding new paragraph (i) to read as follows:

§ 250.905 How do I get approval for the installation, modification, or repair of my platform?

* * * * *

Required documents | Required contents | Other requirements
* * * * * * *
(i) Summary of safety factors utilized | A summary of pertinent derived factors of safety against failure for major structural members, e.g., unity check ratios exceeding 0.85 for steel-jacket platform members, indicated on “line” sketches of jacket sections | You must submit one copy.
* * * * * * *

8. Section 250.911 is amended by redesignating current paragraphs (d) through (g), as paragraphs (e) through (h), respectively, and adding new paragraph (d) to read as follows:

§ 250.911 If my platform is subject to the Platform Verification Program, what must I do?

* * * * *

(d) Submit a complete schedule of all phases of design, fabrication, and installation for the Regional Supervisor's approval. You must include a project management timeline [Gantt Chart] that depicts when interim and final reports required by §§ 250.916, 250.917, and 250.918 will be submitted to the Regional Supervisor for each phase. On the timeline, you must break out the specific scopes of work that inherently stand alone (e.g., deck, mooring systems, tendon systems, riser systems, turret systems).

* * * * *

9. Section 250.916(c) is revised to read as follows:

§ 250.916 What are the CVA's primary duties during the design phase?

* * * * *

(c) The CVA must submit interim reports and a final report to the Regional Supervisor, and to you, during the design phase in accordance with the approved schedule required by § 250.911(d). In each interim and final report the CVA must:

(1) Provide a summary of the material reviewed and the CVA's findings;

(2) Make a recommendation that the Regional Supervisor either accept, request modifications, or reject the proposed design;

(3) Describe the particulars of how, by whom, and when the independent review was conducted; and

(4) Provide any additional comments the CVA may deem necessary.

10. Section 250.917(c) is revised to read as follows:

§ 250.917 What are the CVA's primary duties during the fabrication phase?

* * * * *

(c) The CVA must submit interim reports and a final report to the Regional Supervisor, and to you, during the fabrication phase in accordance with the approved schedule required by § 250.911(d). In each interim and final report the CVA must:

(1) Give details of how, by whom, and when the independent monitoring activities were conducted;

(2) Describe the CVA's activities during the verification process;

(3) Summarize the CVA's findings;

(4) Confirm or deny compliance with the design specifications and the approved fabrication plan;

(5) Make a recommendation to accept or reject the fabrication; and

(6) Provide any additional comments that the CVA deems necessary.

11. Section 250.918(c) is revised to read as follows:

§ 250.918 What are the CVA's primary duties during the installation phase?

* * * * *

(c) The CVA must submit interim reports and a final report to the Regional Supervisor, and to you, during the installation phase in accordance with the approved schedule required by § 250.911(d). In each interim and final report the CVA must:

(1) Give details of how, by whom, and when the independent monitoring activities were conducted;

(2) Describe the CVA's activities during the verification process;

(3) Summarize the CVA's findings;

(4) Confirm or deny compliance with the approved installation plan;

(5) Make a recommendation to accept or reject the installation; and

(6) Provide any additional comments that the CVA deems necessary.

12. Section 250.919 is amended by revising paragraph (a), and adding new paragraphs (c) and (d) to read as follows:

§ 250.919 What in-service inspection requirements must I meet?

(a) You must submit a comprehensive annual in-service inspection plan covering all of your platforms to the Regional Supervisor for approval by April 1 of each year. As a minimum, your plan must:

(1) Address the recommendations of the appropriate documents listed in § 250.901(a);

(2) Specify the type, extent, and frequency of in-place inspections which you will conduct for both the above-water and the below-water structure of all platforms and pertinent components of the mooring systems for floating platforms; and

(3) Address how you are monitoring the corrosion protection for both the above water and below water structure.

* * * * *

(c) If any of your structures have been exposed to a natural occurrence (e.g., hurricane, earthquake, or tropical storm), the Regional Supervisor may require you to submit an initial report, followed by subsequent updates, that includes the following:

(1) A list of affected structures;

(2) A timetable for conducting the inspections described in section 14.4.3 of API RP 2A-WSD (incorporated by reference as specified in § 250.198); and

(3) An inspection plan for each structure that describes the work you will perform to determine the condition of the structure.

(d) The Regional Supervisor may also require you to submit the results of the inspections referred to in paragraph (c)(2) of this section, including a description of any detected damage that may adversely affect structural integrity, an assessment of its ability to withstand any anticipated environmental conditions, and any remediation plans. Under §§ 250.900(b)(3) and 250.905, you must obtain approval from MMS before you make major repairs of any damage.

13. Section 250.920 is revised to read as follows:

§ 250.920 What are the MMS requirements for assessment of platforms?

(a) You must perform a platform assessment when platform assessment initiators exist. Platform assessment initiators are listed in Sections 17.2.1-17.2.5 of API RP 2A-WSD (incorporated by reference as specified in § 250.198).

(b) You must document all wells, equipment, and pipelines supported by the platform if you intend to use the medium or low consequence-of-failure exposure category for your assessment. Exposure categories are defined in API RP 2A-WSD Section 1.7. You must obtain approval from the Regional Supervisor before assessing your platform to either the medium consequence-of-failure or low consequence-of-failure exposure category.

(c) You must perform a complete platform structural assessment analysis when your platform assessment indicates that the platform is damaged; the deck height is inadequate; loading is significantly increased; or the exposure category changes to a more restrictive level.

(d) You must initiate mitigation actions for platforms that do not pass the assessment process of API RP 2A-WSD. Your mitigation actions must be approved by the Regional Supervisor.

(e) MMS may require you to conduct a platform assessment where the reduced environmental loading criteria contained in API RP 2A-WSD Section 17.6 are not allowed.

(f) By November 1 of each year, you must submit a complete list of all the platforms you operate, together with all the appropriate data to support the consequence-of-failure category you assign to each platform and the platform assessment initiators (as defined in API RP 2A-WSD) to the Regional Supervisor.

(g) The use of Section 17, Assessment of Existing Platforms, of API RP 2A-WSD is limited to existing fixed structures that are serving their original approved purpose and were designed in accordance with the provisions in the 19th or earlier edition of API RP 2A-WSD. You must obtain approval from the Regional Supervisor for any change in purpose of the platform, following the provisions of API RP 2A-WSD, Section 15, Re-use.

14. Section 250.1007 is amended by revising paragraph (a)(4) to read as follows:

§ 250.1007 What to include in applications.

(a) * * *

(4) A description of any additional design precautions you took to enable the pipeline to withstand the effects of water currents, storm or ice scouring, soft bottoms, mudslides, earthquakes, permafrost, and other environmental factors.

(i) If you propose to use unbonded flexible pipe, your application must include:

(A) The manufacturer's design specification sheet;

(B) The design pressure (psi);

(C) An identification of the design standards you used; and

(D) A review by a third-party independent verification agent (IVA) according to API Spec 17J (incorporated by reference as specified in § 250.198), if applicable.

(ii) If you propose to use one or more pipeline risers for a tension leg platform or other floating platform, your application must include:

(A) The design fatigue life of the riser, with calculations, and the fatigue point at which you would replace the riser;

(B) The results of your vortex-induced vibration (VIV) analysis;

(C) An identification of the design standards you used; and

(D) A description of any necessary mitigation measures such as the use of helical strakes or anchoring devices.

* * * * *

[FR Doc. E6-10401 Filed 6-30-06; 8:45 am]

BILLING CODE 4310-MR-P